DEPARTMENT OF THE INTERIOR

National Park Service

[NPS-NERO-GATE-16827; PPNEGATEB0, PPMVSCS1Z.Y00000]

Cancellation of October 17, 2014, Meeting of the Gateway National Recreation Area Fort Hancock 21st Century Advisory Committee

AGENCY: National Park Service, Interior.

ACTION: Cancellation of meeting.

SUMMARY: In accordance with the Federal Advisory Committee Act (5 U.S.C. Appendix 1-16), notice is hereby given that the October 17, 2014, meeting of the Gateway National Recreation Area Fort Hancock 21st Century Advisory Committee previously announced in the Federal Register, Vol. 79, September 10, 2014, pp. 53773-53774, is cancelled.

FOR FURTHER INFORMATION CONTACT: John Warren, External Affairs Officer, Gateway National Recreation Area, Sandy Hook Unit, 26 Hudson Road, Highlands, New Jersey 07732, telephone (732) 872-5908, email John_Warren@nps.gov.

SUPPLEMENTARY INFORMATION: Under section 10(a)(2) of the Federal Advisory Committee Act (5 U.S.C. Appendix 1-16), the purpose of the Committee is to provide advice to the Secretary of the Interior, through the Director of the National Park Service, on the development of a reuse plan and on matters relating to future uses of certain buildings at the Fort Hancock and Sandy Hook Proving Ground National Historic Landmark which lie within Gateway National Recreation Area.

Dated: October 14, 2014.
Alma Ripps,
Chief, Office of Policy.

[FR Doc. 2014-24810 Filed 10-17-14; 8:45 am]

BILLING CODE 4310-EE-P